DEPARTMENT OF HEALTH AND HUMAN SERVICES

Health Resources and Services Administration

Federal Credentialing Program; Working Meeting

Announcement is made of the following Federal Credentialing Program (FCP)Working Meeting scheduled for July 10-13, 2000:

Name: Federal Credentialing Program Working Meeting.

Date and Time:

Monday, July 10, 2000, 8:30 a.m.-5 p.m.

Tuesday, July 11, 2000, 8:30 a.m.-5 p.m.

Wednesday, July 12, 2000, 8:30 a.m.-5 p.m.

Thursday, July 13, 2000, 8:30 a.m.-12 p.m.

Place: The Hilton Alexandria Mark Center, 5000 Seminary Road, Alexandria, VA 22311.

This meeting is open to credentialing software developers and data consultants.

Agenda: The agenda will include an opening address on Web Technology and Interoperable Systems, and an overview of the FCP Program. Additional presentations include an Introduction to Data Exchange and expert panel presentations on trends in the Development of Standards for Health Care Data Exchange and The Standards Creation Process.

This FCP meeting will convene other health care provider professional representatives for work group meetings to be held on Wednesday, July 12, and Thursday, July 13, 2000. The groups will identify the data elements required to credential their professions, and provide an exhibit forum for credentialing software manufacturers. The meeting will provide an open forum for credentialing data, developers and data consultants to discuss design for a new Health Level 7 software developers credentialing data exchange standard.

For registration information, contact Linda White at 314-894-5747 or by e-mail at whitelin@lrn.va.gov

Agenda items are subject to change as priorities dictate.

Dated: May 23, 2000.
Jane M. Harrison,
Director, Division of Policy Review and Coordination.

[FR Doc. 00-13338 Filed 5-26-00; 8:45 am]

BILLING CODE 4160-15-P